DEPARTMENT OF THE INTERIOR

Fish and Wildlife Service

Aquatic Nuisance Species Task Force Northeast Regional Panel Meeting

AGENCY: Fish and Wildlife Service, Interior.

ACTION: Notice of meeting.

SUMMARY: This notice announces a meeting of the Aquatic Nuisance Species (ANS) Task Force Northeast Regional Panel. The meeting topics are identified in the SUPPLEMENTARY INFORMATION.

DATES: The Northeast Regional Panel will meet from 1 p.m. to 5 p.m. Tuesday, November 9, 2004, and 8:30 a.m. to 4 p.m. on Wednesday, November 10, 2004. Minutes of the meeting will be available for public inspection during regular business hours, Monday through Friday.

ADDRESSES: The Northeast Regional Panel meeting will be held at the Gideon Putnam Hotel and Conference Center, 24 Gideon Putnam Road, Saratoga Springs, NY 12866. Phone 518-226-4700. Minutes of the meeting will be maintained in the office of Chief, Division of Environmental Quality, U.S. Fish and Wildlife Service, Suite 322, 4401 North Fairfax Drive, Arlington, Virginia 22203-1622.

FOR FURTHER INFORMATION CONTACT: Michele Tremblay, Northeast Panel Coordinator, Nature Source Communications, P.O. Box 3019, Boscawen, NH, 03303, 603-796-2615, or Everett Wilson, Chief, Division of Environmental Quality, U.S. Fish and Wildlife Service at 703-358-2148.

SUPPLEMENTARY INFORMATION: Pursuant to section 10(a)(2) of the Federal Advisory Committee Act (5 U.S.C. App. I), this notice announces meetings of the Aquatic Nuisance Species Task Force Northeast Regional Panel. The Task Force was established by the Nonindigenous Aquatic Nuisance Prevention and Control Act of 1990. The Northeast Regional Panel was established by the ANS Task Force in 2001 and is comprised of representatives from Federal, State, and local agencies and from private environmental and commercial interests.

The purpose of the Panel is to advise and make recommendations to the Aquatic Nuisance Species Task Force on issues relating to the Northeast region of the United States that includes: Connecticut, Massachusetts, Maine, New Hampshire, New York, Rhode Island and Vermont. Responsibilities of the Panel include: a. Identifying priorities for the Northeast Region with respect to aquatic nuisance species; b. Making recommendations to the Task Force regarding actions to carry out aquatic invasive species programs. c. Assisting the Task Force in coordinating Federal aquatic nuisance species program activities in the Northeast region; d. Coordinating, where possible, aquatic invasive species program activities in the Northeast region that are not conducted pursuant to the Nonindigenous Aquatic Nuisance Prevention and Control Act of 1990 (as amended, 1996); e. Providing advice to public and private individuals and entities concerning methods of controlling aquatic nuisance species; and f. Submitting an annual report describing activities within the Western region related to aquatic nuisance species prevention, research, and control.

The Northeast Regional Panel will discuss several topics at this meeting including: updates from both the ANS Task Force and the National Invasive Species Council, and updates from other groups including State and Regional updates; committee break-out planning sessions and updates; New York State highlights; research priorities, progress on the rapid assessment, the New Hampshire outreach pilot program; the pet industry panel, and a feature on sea lamprey including management strategies in New York.

Dated: September 22, 2004.
M.A. Parker,
Co-Chair, Aquatic Nuisance Species Task Force, Assistant Director—Fisheries & Habitat Conservation.

[FR Doc. 04-23178 Filed 10-14-04; 8:45 am]

BILLING CODE 4310-55-P